DEPARTMENT OF DEFENSE

Department of the Air Force

United States Air Force Academy Board of Visitors; Notice of Federal Advisory Committee Meeting; Cancellation

AGENCY: Office of the Secretary, United States Air Force Academy Board of Visitors (USAFA BoV), Department of the Air Force, DoD.

ACTION: Quarterly meeting notice; cancellation.

SUMMARY: On Thursday, February 26, 2015 (38 FR 10462), the Department of Defense published in the Federal Register, a notice to announce the quarterly meeting of the United States Air Force Academy Board of Visitors on Monday, March 16, 2015, beginning at 10:15 a.m. The meeting was cancelled due to last-minute circumstances indicating there would not be a quorum for the meeting.

FOR FURTHER INFORMATION CONTACT: The next scheduled USAFA BoV meeting has not been established, but will be published in the Federal Register at least 15 days prior to the meeting.

SUPPLEMENTARY INFORMATION: Meeting Announcement: The Designated Federal Officer (DFO) for the Board of Visitors of the U.S. Air Force Academy has cancelled the previously scheduled meeting for March 16, 2015. Due to the timing of this decision, which was beyond the control of the Department of Defense or the DFO, the DFO was unable to ensure compliance with the requirements of 41 CFR 102-3.150(a). Accordingly, the Advisory Committee Management Officer for the Department of Defense, pursuant to 41 CFR 102-3.150(b), waives the 15-calendar day notification requirement.

Henry Williams Jr.,
Acting Air Force Federal Register Liaison Officer, DAF.

[FR Doc. 2015-06466 Filed 3-20-15; 8:45 am]

BILLING CODE 5001-10-P